DEPARTMENT OF TRANSPORTATION

Research and Special Programs Administration

49 CFR Part 192

[Docket No. RSPA-99-6106; Amdt. 192-94]

RIN 2137-AD35

Pipeline Safety: Periodic Updates to Pipeline Safety Regulations

AGENCY: Research and Special Programs Administration, DOT.

ACTION: Direct final rule.

SUMMARY: This direct final rule makes a minor editorial correction to the definition of “transmission line” in the Federal safety regulations for natural gas pipelines. The correction is intended to clarify that gathering lines are excluded from the definition of transmission line. Because gathering lines have never been included in the definition of transmission line, the correction will not result in any substantive change in the definition.

DATES: This direct final rule goes into effect on May 6, 2005. If the Research and Special Programs Administration's Office of Pipeline Safety (RSPA/OPS) does not receive an adverse comment ¹ or notice of intent to file an adverse comment by March 22, 2005, it will publish a confirmation document within 15 days after the close of the comment period. The confirmation document will announce that this direct final rule will go into effect on the date stated above or at least 30 days after the document is published, whichever is later. If RSPA/OPS receives an adverse comment, it will publish a timely notice to confirm that fact and withdraw this direct final rule in whole or in part. RSPA/OPS may then incorporate changes based on the adverse comment into a subsequent direct final rule or may publish a notice of proposed rulemaking.

¹ An adverse comment is one which explains why the rule would be inappropriate, including a challenge to the rule's underlying premise or approach, or would be ineffective or unacceptable without a change. Comments that are frivolous or insubstantial will not be considered adverse under this procedure. A comment recommending a rule change in addition to the rule will not be considered an adverse comment, unless the commenter states why the rule would be ineffective without the additional change. (49 CFR 190.339(c)).

ADDRESSES: You may submit written comments directly to the dockets by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 10 a.m. to 5 p.m., Monday through Friday, except Federal holidays.

• Web site: Go to http://dms.dot.gov, click on “Comment/Submissions” and follow instructions at the site.

All written comments should identify the docket number (RSPA-99-6106) stated in the heading of this notice.

Docket access. For copies of this notice or other material in the docket, you may contact the Dockets Facility by phone (202-366-9329) or visit the facility at the above street address. For Web access to the docket to read and download filed material, go to http://dms.dot.gov/search. Then type in the last four digits of the docket number shown in the heading of this notice, and click on “Search.”

Privacy Act Information. Anyone can search the electronic form of all comments filed in any of our dockets by the name of the individual submitting the comment (or signing the comment, if submitted for an association, business, labor union, etc.). You may review DOT's complete Privacy Act Statement in the April 11, 2000, issue of the Federal Register (65 FR 19477) or go to http://dms.dot.gov.

Electronic Access

An electronic copy of this document may be downloaded by using a computer, modem, and suitable communications software from the Government Printing Office's Electronic Bulletin Board Service at (202) 512-1661. Internet users may reach the Office of the Federal Register's Home page at: http://www.nara.gov/fedreg and the Government Printing Office's database at: http://www.access.gpo.gov/nara. You can also view and download this document by going to the Department's Docket Management System Web page at: http://www.dms.dot.gov. On that page, click on “search.” On the next page, type in the last four digits of the docket number shown in the title block on the first page of this document. Then, click on “search.”

FOR FURTHER INFORMATION CONTACT: Gopala K. Vinjamuri, Research and Special Programs Administration, U.S. Department of Transportation, 400 Seventh Street, SW., Room 2103, Washington, DC 20590-0001; (202) 366-4503 (voice); (202) 366-4566 (fax); E-Mail Address: gopala.vinjamuri@rspa.dot.gov.

SUPPLEMENTARY INFORMATION: On June 14, 2004, RSPA/OPS issued a final rule titled “Periodic Updates to Pipeline Safety Regulations” (69 FR 32886). The final rule amended various sections of the pipeline safety regulations and incorporated the most recent editions of the voluntary consensus standards publications referenced in the Federal Pipeline Safety Regulations in 49 CFR parts 192 and 195. On September 9, 2004, RSPA/OPS issued correcting amendments to the final rule (69 FR 54591). These amendments corrected several inadvertent errors in the final rule.

After the correcting amendments were published, RSPA/OPS received three written comments noting that the correcting amendments failed to correct a punctuation error in the definition of transmission line in 49 CFR 192.3. These commenters contended that this punctuation error could be misinterpreted as creating an ambiguity in the definition of transmission line. Specifically, the commenters contended that the absence of a colon after the introductory phrase could lead to an unintended interpretation that the exclusion for gathering lines was not applicable to the second and third sub-clauses of the definition.

RSPA/OPS never intended the issuance of the final rule or the correcting amendments to result in any substantive change to the definition of transmission line. Moreover, gathering lines have never been included in the § 192.3 definition of transmission line. In response to the comments, however, we are correcting this punctuation error to remove even the potential for any ambiguity or misinterpretation in the definition of transmission line. This minor correction will not result in any substantive change to the definition.

This direct final rule making a minor editorial correction is not a significant regulatory action within the meaning of Executive Order 12866 (“Regulatory Planning and Review,” 58 FR 51735; Oct. 4, 1993), and is not significant within the meaning of Department of Transportation regulatory policies and procedures (44 FR 11034; Feb. 26, 1979). As required by the Regulatory Flexibility Act, as amended (5 U.S.C. 601 et seq.), RSPA/OPS certifies that the amendment made by this rule will not have a significant economic impact on a substantial number of small entities.

List of Subjects in 49 CFR Part 192

Pipeline safety.

For the reasons stated in the preamble, RSPA/OPS amends 49 CFR part 192 as follows:

PART 192—TRANSPORTATION OF NATURAL AND OTHER GAS BY PIPELINE: MINIMUM FEDERAL SAFETY STANDARDS

1. The authority citation for Part 192 continues to read as follows:

Authority: 49 U.S.C. 5103, 60102, 60104, 60108, 60109, 60110, 60113, and 60118; and 49 CFR 1.53.

2. Amend § 192.3 by revising the definition of “transmission line” to read as follows:

§ 192.3 Definitions.

* * * * *

Transmission line means a pipeline, other than a gathering line, that: (1) Transports gas from a gathering line or storage facility to a distribution center, storage facility, or large volume customer that is not down-stream from a distribution center; (2) operates at a hoop stress of 20 percent or more of SMYS; or (3) transports gas within a storage field.

Note: A large volume customer may receive similar volumes of gas as a distribution center, and includes factories, power plants, and institutional users of gas.

* * * * *

Issued in Washington, DC, on January 11, 2005.
Samuel G. Bonasso,
Deputy Administrator.

[FR Doc. 05-1062 Filed 1-19-05; 8:45 am]

BILLING CODE 4910-60-P